DEPARTMENT OF HOMELAND SECURITY

Federal Emergency Management Agency

[Docket ID FEMA-2016-0002; Internal Agency Docket No. FEMA-B-1606]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: March 20, 2016.
Roy E. Wright,
Deputy Associate Administrator for Insurance and Mitigation, Department of Homeland Security, Federal Emergency Management Agency.

State and county | Location and case No. | Chief executive officer of community | Community map repository | Online location of letter of map revision | Effective date of modification | Community No.
Idaho:
Ada | Unincorporated areas of Ada County (16-10-0201X) | The Honorable Dave Case, District Commissioner, Ada County, 200 West Front Street, 3rd Floor, Boise, ID 83702 | County Courthouse, 200 West Front Street, 3rd Floor, Boise, ID 83702 | http://www.msc.fema.gov/lomc | Apr. 15, 2016 | 160001
Valley | City of Donnelly (16-10-0166P) | The Honorable Bradley Backus, Mayor, City of Donnelly, 169 Halferty Street, Donnelly, ID 83615 | City Hall, 169 Halferty Street, Donnelly, ID 83615 | http://www.msc.fema.gov/lomc | Apr. 22, 2016 | 160121
Valley | Unincorporated areas of Valley County (16-10-0166P) | The Honorable Gordon Cruickshank, Chairman, Valley County Board of Commissioners, 219 North Main Street, Cascade, ID 83611 | Valley County Planning and Zoning Department, 219 North Main Street, Cascade, ID 83611 | http://www.msc.fema.gov/lomc | Apr. 22, 2016 | 160220
Illinois:
Sangamon | City of Springfield (15-05-8063X) | The Honorable James O. Langfelder, Mayor, City of Springfield, 800 East Monroe Street, Springfield, IL 62701 | Public Works Department, 300 South 7th Street, Room 203, Springfield, IL 62701 | http://www.msc.fema.gov/lomc | May 5, 2016 | 170604
Sangamon | Unincorporated areas of Sangamon County (15-05-8063X) | The Honorable Andy Van Meter, Sangamon County Chairman, 200 South 9th Street, Room 201, Springfield, IL 62701 | Springfield—Sangamon County, Regional Planning Commission, 200 South 9th Street, Room 212, Springfield, IL 62701 | http://www.msc.fema.gov/lomc | May 5, 2016 | 170912
Indiana:
Decatur | City of Greensburg (15-05-5745P) | The Honorable Gary L. Herbert, Mayor, City of Greensburg, 314 West Washington Street, Greensburg, IN 47240 | City Hall, 314 West Washington Street, Greensburg, IN 47240 | http://www.msc.fema.gov/lomc | Apr. 27, 2016 | 180043
Decatur | Unincorporated areas of Decatur County (15-05-5745P) | Mr. Rick J. Nobbe, Chairman, Decatur County Board of Commissioners, 150 Courthouse Square, Suite 133, Greensburg, IN 47240 | Decatur County Planning and Zoning Department, Decatur County Courthouse, 150 Courthouse Square, Suite 117, Greensburg, IN 47240 | http://www.msc.fema.gov/lomc | Apr. 27, 2016 | 180430
Kansas:
Sedgwick | City of Wichita (15-07-0922P) | The Honorable Carl Brewer, Mayor, City of Wichita, City Hall, 455 North Main Street, 1st Floor, Wichita, KS 67202 | Office of Stormwater Management, 455 North Main Street, 8th Floor, Wichita, KS 67202 | http://www.msc.fema.gov/lomc | Apr. 26, 2016 | 200328
Sedgwick | Unincorporated areas of Sedgwick County (15-07-0922P) | The Honorable Richard Ranzau, Chairman, Sedgwick County Commission, 525 North Main Street, No. 320, Wichita, KS 67203 | Sedgwick County Code Enforcement Office, 144 South Seneca Street, Wichita, KS 67213 | http://www.msc.fema.gov/lomc | Apr. 26, 2016 | 200321
Massachusetts:
Middlesex | City of Cambridge (15-01-2142P) | The Honorable David P. Maher, Mayor, City of Cambridge, 495 Massachusetts Avenue, Cambridge, MA 02139 | City Hall, 495 Massachusetts Avenue, Cambridge, MA 02139 | http://www.msc.fema.gov/lomc | Apr. 8, 2016 | 250186
Middlesex | Town of Arlington (15-01-2142P) | Mr. Kevin F. Greeley, Chairman, Town of Arlington, Board of Selectmen, 730 Massachusetts Avenue, Arlington, MA 02476 | Planning and Community Development Department, 730 Massachusetts Avenue Annex, Arlington, MA 02476 | http://www.msc.fema.gov/lomc | Apr. 8, 2016 | 250177
Middlesex | Town of Belmont (15-01-2142P) | Mr. Sami S. Baghdady, Chairman, Town of Belmont Board of Selectmen, 455 Concord Avenue, Belmont, MA 02478 | Public Works Department, 455 Concord Avenue, Belmont, MA 02478 | http://www.msc.fema.gov/lomc | Apr. 8, 2016 | 250182
Michigan:
Macomb | Charter Township of Washington (15-05-6512P) | Mr. Dan O'Leary, Township Supervisor, Charter Township of Washington, 57900 Van Dyke Road, Washington, MI 48094 | Planning and Zoning Department, 57900 Van Dyke Road, Washington, MI 48094 | http://www.msc.fema.gov/lomc | Mar. 18, 2016 | 260447
Macomb | Township of Macomb (16-05-0488P) | Ms. Janet Dunn, Supervisor, Township of Macomb, 54111 Broughton Road, Macomb, MI 48042 | Planning and Zoning Department, 54111 Broughton Road, Macomb, MI 48042 | http://www.msc.fema.gov/lomc | Apr. 19, 2016 | 260445
Minnesota: Cottonwood | City of Windom (15-05-5228P) | The Honorable Corey Maricle, Mayor, City of Windom, 444 9th Street, P.O. Box 38, Windom, MN 56101 | City Hall, 444 9th Street, Windom, MN 56101 | http://www.msc.fema.gov/lomc | Mar. 17, 2016 | 270090
New York: Monroe | Town of Henrietta (15-02-1216P) | The Honorable Jack W. Moore, Supervisor, Town of Henrietta, 475 Calkins Road, Henrietta, NY 14467 | Town Hall, 475 Calkins Road, Henrietta, NY 14467 | http://www.msc.fema.gov/lomc | Apr. 5, 2016 | 360419
Pennsylvania:
Monroe | Borough of East Stroudsburg (15-03-2847P) | The Honorable Armand M. Martinelli, Mayor, Borough of East Stroudsburg, 24 Analomink Street, P.O. Box 303, East Stroudsburg, PA 18301 | Borough Hall, 24 Analomink Street, East Stroudsburg, PA 18301 | http://www.msc.fema.gov/lomc | Apr. 26, 2016 | 420691
Monroe | Borough of Stroudsburg (15-03-2847P) | Ms. Kim M. Diddio, President, Borough of Stroudsburg Council, 700 Sarah Street, Stroudsburg, PA 18360 | Stroudsburg Municipal Building, 700 Sarah Street, Stroudsburg, PA 18360 | http://www.msc.fema.gov/lomc | Apr. 26, 2016 | 420694
Monroe | Township of Stroud (15-03-2847P) | Mr. Edward C. Cramer, Chairman, Township of Stroud Board of Supervisors, 1211 North 5th Street, Stroudsburg, PA18360 | Stroud Township Municipal Building, 1211 North 5th Street, Stroudsburg, PA 18360 | http://www.msc.fema.gov/lomc | Apr. 26, 2016 | 420693
South Carolina: Greenville | City of Greenville (15-04-4735P) | The Honorable Knox White, Mayor, City of Greenville, 206 South Main Street, P.O. Box 2207, Greenville, SC 29601 | City Hall, 206 South Main Street, Greenville, SC 29601 | http://www.msc.fema.gov/lomc | Apr. 25, 2016 | 450091
Texas:
Collin | City of Dallas (15-06-3975P) | The Honorable Michael S. Rawlings, Mayor, City of Dallas, 1500 Marilla Street, Room 5EN, Dallas, TX 75201 | City Hall, 320 East Jefferson Boulevard, Room 321, Dallas, TX 75203 | http://www.msc.fema.gov/lomc | Apr. 15, 2016 | 480171
Tarrant | City of Fort Worth (15-06-2415P) | The Honorable Betsy Price, Mayor, City of Fort Worth, 1000 Throckmorton Street, Fort Worth, TX 76102 | City Hall, 1000 Throckmorton Street, Fort Worth, TX 76102 | http://www.msc.fema.gov/lomc | Apr. 13, 2016 | 480596
Virginia: Pittsylvania | City of Danville (15-03-1839P) | The Honorable Sherman Saunders, Mayor, City of Danville, 115 Druid Lane, Danville, VA 24541 | City Hall, 427 Patton Street, Danville, VA 24541 | http://www.msc.fema.gov/lomc | Mar. 25, 2016 | 510044
Washington:
King | City of Bellevue (15-10-0979P) | Mr. Brad Miyake, City Manager, City of Bellevue, 450 110th Avenue Northeast, Bellevue, WA 98009 | City Hall, 450 110th Avenue Northeast, Bellevue, WA 98009 | http://www.msc.fema.gov/lomc | Mar. 15, 2016 | 530074
Spokane | City of Spokane Valley (15-10-1394P) | The Honorable David A. Condon, Mayor, City of Spokane Valley, 808 West Spokane Falls Boulevard, Spokane Valley, WA 99201 | City Hall, 11707 East Sprague Avenue, Suite 106, Spokane Valley, WA 99203 | http://www.msc.fema.gov/lomc | Mar. 18, 2016 | 530342
Wisconsin: St. Croix | Unincorporated areas of St. Croix County (15-05-3808P) | The Honorable Roger Larson, Chairman, St. Croix County Board of Supervisors, 1101 Carmichael Road, Hudson, WI 54016 | St. Croix County, County Office Building, 1101 Carmichael Road, Hudson, WI 54016 | http://www.msc.fema.gov/lomc | Apr. 1, 2016 | 555578

[FR Doc. 2016-07505 Filed 4-1-16; 8:45 am]

BILLING CODE 9110-12-P